DEPARTMENT OF ENERGY

Federal Energy Regulatory Commission

[Docket Nos. RM96-1-026, RP05-501-000, RP05-504-000 and RP05-503-000]

Standards for Business Practices of Interstate Natural Gas Pipelines, Florida Gas Transmission Company, Steuben Gas Storage Company, Equitrans, L.P.; Notice of Compliance Filing

July 13, 2005.

Take notice that the above-referenced pipelines filed revised tariff sheets in accordance with the Commission's Order No. 587-S, Final Rule, in Docket No. RM96-1-026 issued May 9, 2005, 111 FERC ¶ 61,203 (2005). The revised tariff sheets are to be effective September 1, 2005.

The above-referenced pipelines explains that in Order No. 587-S, the Commission, among other things, amended 18 CFR 284.12 of its regulations incorporate by reference the most recent version, Version 1.7 of the standards promulgated by the Wholesale Gas Quadrant (WGQ) of the North American Energy Standards Board (NAESB). The pipelines further note that the Commission also incorporated by reference the standards ratified by NAESB on June 25, 2004, to implement Order No. 2004, the standards ratified by NAESB on May 3, 2005, to implement Order No. 2004-A, and the standards to implement gas quality reporting requirements ratified by NAESB on October 20, 2004. The pipelines further state that in Order No. 587-S, the Commission required pipelines to file revised tariff sheets to reflect the changed standards by July 1, 2005, with an effective date of September 1, 2005.

Any person desiring to become a party in any of the listed dockets must file a separate motion to intervene in each docket for which they wish party status.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 21, 2005.

Magalie R. Salas,
Secretary.

[FR Doc. E5-3821 Filed 7-18-05; 8:45 am]

BILLING CODE 6717-01-P